FEDERAL RETIREMENT THRIFT INVESTMENT BOARD

Sunshine Act Notice of Meeting

Agenda

Federal Retirement Thrift Investment Board Member Meeting

8:30 a.m. (In-Person)

February 27, 2017

Open Session

1. Approval of the Minutes of the January 23, 2017 Board Member Meeting

2. Monthly Reports

(a) Participant Activity Report

(b) Investment Policy Report

(c) Legislative Report

3. Quarterly Reports

(d) Metrics

(e) Project Activity

(f) Audit Status

(g) Audit Reports

4. FISMA Report

5. Enterprise Risk Framework

6. Blended Retirement Projections

Closed Session

7. Information covered under 5 U.S.C. 552b(c)(4) and (c)(9)(B).

Adjourn

CONTACT PERSON FOR MORE INFORMATION: Kimberly Weaver, Director, Office of External Affairs, (202) 942-1640.

Dated: February 15, 2017.
Dharmesh Vashee,
Acting General Counsel, Federal Retirement Thrift Investment Board.

[FR Doc. 2017-03356 Filed 2-15-17; 4:15 pm]

BILLING CODE 6760-01-P